DEPARTMENT OF THE INTERIOR

Bureau of Indian Affairs

[245A2100DD/AAKC001030/A0A501010.999900]

Land Acquisitions; Jamul Indian Village of California

AGENCY: Bureau of Indian Affairs, Interior.

ACTION: Notice.

SUMMARY: The Assistant Secretary—Indian Affairs made a final agency determination to acquire .838 acres, more or less, of land in trust for the Jamul Indian Village of California.

DATES: This final determination was made on July 19, 2024.

FOR FURTHER INFORMATION CONTACT: Amy Dutschke, Regional Director, Bureau of Indian Affairs, Pacific Region, 2800 Cottage Way, Room W-2820, Sacramento, CA 95825, comments@bia.gov, (916) 978-6000.

SUPPLEMENTARY INFORMATION: On the date listed in the DATES section of this notice, the Assistant Secretary—Indian Affairs made a final agency determination to accept land in trust for the Jamul Indian Village of California under the authority of section 5 of the Indian Reorganization Act of June 18, 1934 (48 Stat. 984). The land consists of .838 acres, more or less, and is in the unincorporated area of the County of San Diego, State of California. The legal description is as follows:

Legal Land Description

That portion of Rancho Jamul described in Deed to Roman Catholic Bishop of Monterey and Los Angeles recorded September 12, 1912 in Book 567, Page 332, in the Office of the County Recorder of San Diego County, California more particularly described as follows: Commencing at Rancho Jamul Corner No. 16; thence N. 88°42′ E. (S. 88°42′ E. per Record of Survey Map Nos. 8138, 8756, 9173, and Land Survey No. 430), 739.37 feet to the true point of beginning as shown on the Record of Survey Map No. 8138, filed December 2, 1976 in the Office of the County Recorder of San Diego County, California; thence S. 1°18′ W, 111.77′; thence S. 87°55′38″ W, 65.81; thence S. 44°51′38″ W, 88.60′, thence S. 1°19.25″ W, 59.80′, thence N. 88°41′06″ W., 83.66 feet; thence N. 1°24′08″ E., 239.63′; thence N. 88°42′ E. (S. 88°42′ E. per Record of Survey Map Nos. 8138, 8756, 9173, and Land Survey No. 430), 210 feet to the true point of beginning, containing 0.838 acre more or less.

Authority: This notice is published in the exercise of authority delegated by the Secretary of the Interior to the Assistant Secretary—Indian Affairs by 209 Departmental Manual 8.1 and is published to comply with the requirements of 25 CFR 151.12 (c)(2)(ii) that notice of the decision to acquire land in trust be promptly provided in the Federal Register.

Wizipan Garriott,
Principal Deputy Assistant Secretary—Indian Affairs, Exercising by delegation the authority of the Assistant Secretary—Indian Affairs.

[FR Doc. 2024-19924 Filed 9-4-24; 8:45 am]

BILLING CODE 4337-15-P